NATIONAL SCIENCE FOUNDATION

Sunshine Act Meeting; National Science Board

The National Science Board's Committee on Honorary Awards, pursuant to NSF regulations (45 CFR part 614), the National Science Foundation Act, as amended (42 U.S.C. 1862n-5), and the Government in the Sunshine Act (5 U.S.C. 552b), hereby gives notice of the scheduling of a teleconference for the transaction of National Science Board business, as follows:

DATE and TIME: October 13, 2016 from 1:00-2:00 p.m. EDT.

SUBJECT MATTER: (1) Committee Chair's opening remarks; (2) Review and discuss candidates for the 2017 National Science Board Honorary Awards—the Vannevar Bush Award and the NSB Public Service Award.

STATUS: Closed.

This meeting will be held by teleconference at the National Science Foundation, 4201 Wilson Blvd., Arlington, VA 22230. Please refer to the National Science Board Web site www.nsf.gov/nsb for additional information. Meeting information and updates (time, place, subject or status of meeting) may be found at http://www.nsf.gov/nsb/meetings/notices.jsp. Point of contact for this meeting is: Kim Silverman, 4201 Wilson Blvd., Arlington, VA 22230. Telephone: (703) 292-7000.

Chris Blair,
Executive Assistant to the NSB Office.

[FR Doc. 2016-24675 Filed 10-6-16; 4:15 pm]

BILLING CODE 7555-01-P